DEPARTMENT OF AGRICULTURE

Food and Nutrition Service

Agency Information Collection Activities: Proposed Collection; Comment Request—2014 Evaluation of the Summer Electronic Benefits for Children Household-Based Demonstrations on Food Insecurity

AGENCY: Food and Nutrition Service (FNS), USDA.

ACTION: Notice.

SUMMARY: In accordance with the Paperwork Reduction Act of 1995, this notice invites the general public and other public agencies to comment on this proposed information collection. This collection is a revision of the Evaluation of the Summer Electronic Benefits for Children (SEBTC) Household-Based Demonstrations on Food Insecurity, OMB Control No. 0584-0559.

DATES: Written comments must be received on or before January 14, 2014.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Richard Lucas, Director, Office of Policy Support, Food and Nutrition Service, U.S. Department of Agriculture, 3101 Park Center Drive, Room 1014, Alexandria, VA 22302. Comments may also be submitted via fax to the attention of Richard Lucas at 703-305-2576 or via email to Richard.Lucas@fns.usda.govmailto:. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Richard Lucas at 703-305-2017.

SUPPLEMENTARY INFORMATION: Title: 2014 Evaluation of the Summer Electronic Benefits for Children Household-Based Demonstrations on Food Insecurity

Form Number: None.

OMB Number: 0584-0559.

Expiration Date: 03/31/2014.

Type of Request: Revision of a currently approved information collection.

Abstract: The Agriculture, Rural Development, Food and Drug Administration, and Related Agencies Appropriations Act of 2010 (Pub. L. 111-80), Section 749(g), directed that the Secretary of Agriculture shall carry out demonstration projects to develop and test methods of providing access to food for children in urban and rural areas during the summer months when schools are not in regular session to reduce or eliminate the food insecurity and hunger of children; and to improve the nutritional status of children. The Summer Electronic Benefits for Children Household-Based Demonstrations on Food Insecurity carries out the demonstration projects Congress directed USDA to perform in this section. In addition, the Act directed the Secretary of Agriculture to provide for an independent evaluation of the demonstration projects using rigorous methodologies. The Evaluation of the Summer Electronic Benefits for Children Household-Based Demonstrations on Food Insecurity carries out the provisions of the Act.

The evaluation of these projects is intended to provide policymakers with clear, rigorous and timely findings to make decisions about potential changes to Federal summer feeding programs during the next Child Nutrition reauthorization cycle. In 2011 through 2013, the SEBTC evaluations primarily examined how the provision of summer food benefits to the households of children certified for free or reduced-price school meals impacted the prevalence of very low food security among children as well as their nutritional status.

The revised evaluation will gather data from up to 50 demonstration areas in the summer of 2014. Each demonstration site will consist of school districts that have high proportions of children who qualify for free and reduce-price school lunches and be located in rural areas. Households selected for participation will receive either a $60 or $30 benefit per child per month.

Affected Public: School Food Authority Directors in participating Districts.

Estimated Number of Respondents: The total estimated number of respondents in 2014 is 50.

Estimated Number of Responses per Respondent: Each respondent will provide data on the number of children offered a benefit and the number of children who consented to receive the benefit; they may also be asked to transfer an electronic benefit redemption data file to the research team; and they will participate in a one-hour qualitative interview about their experiences with the demonstration.

Estimated Total Annual Responses: 50.

Estimated Time per Response: The estimated average response time is 3 hours. We expect no non-respondents because providing the data is a requirement of participation.

Estimated Total Annual Burden on Respondents and Non-Respondents: The total estimated response time is 150 hours. See the table below.

Respondent | Estimated number of respondent | Responses annually per respondent | Total annual responses (Col. b × c) | Estimated average number of hours per response | Estimated total hours (Col. d × e)
Reporting Burden |  |  |  |  |
School Food Authority Directors | 50 | 1 | 50 | 3 | 150
Total Reporting Burden | 50 |  | 50 |  | 150

Dated: November 8, 2013.
Jeffrey J. Tribiano,
Acting Administrator, Food and Nutrition Service.

[FR Doc. 2013-27456 Filed 11-14-13; 8:45 am]

BILLING CODE 3410-30-P